SMALL BUSINESS ADMINISTRATION

[Declaration of Disaster #3598]

State of New Jersey

As a result of the President's major disaster declaration on July 16, 2004, I find that Burlington and Camden Counties in the State of New Jersey constitute a disaster area due to damages caused by severe storms and flooding occurring on July 12, 2004, and continuing. Applications for loans for physical damage as a result of this disaster may be filed until the close of business on September 14, 2004 and for economic injury until the close of business on April 18, 2005 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Atlantic, Gloucester, Mercer, Monmouth and Ocean in the State of New Jersey; and Bucks and Philadelphia counties in the Commonwealth of Pennsylvania.

Burlington County in the State of New Jersey is also available under Public Assistance and our disaster loan program is available for private non-profit organizations that provide essential services of a governmental nature.

The interest rates are:

| Percent
For Physical Damage:
Homeowners With Credit Available Elsewhere | 5.750
Homeowners Without Credit Available Elsewhere | 2.875
Businesses With Credit Available Elsewhere | 5.500
Businesses and Non-Profit Organizations Without Credit Available Elsewhere | 2.750
Others (Including Non-Profit Organizations) With Credit Available Elsewhere | 4.875
For Economic Injury:
Businesses and Small Agricultural Cooperatives Without Credit Available Elsewhere | 2.750

The number assigned to this disaster for physical damage is 359806. For economic injury the number is 9ZL200 for New Jersey; and 9ZL300 for Pennsylvania. The Public Assistance number assigned for New Jersey is P04206.

(Catalog of Federal Domestic Assistance Program Nos. 59002 and 59008)
Dated: July 19, 2004.
Herbert L. Mitchell,
Associate Administrator, for Disaster Assistance.

[FR Doc. 04-16882 Filed 7-23-04; 8:45 am]

BILLING CODE 8025-01-P